DEPARTMENT OF COMMERCE

National Oceanic and Atmospheric Administration

DEPARTMENT OF THE INTERIOR

Fish and Wildlife Service

[I.D. 081104G]

Marine Mammals; NMFS Permit No. 764-1703-01; USFWS Permit No. MA068532

AGENCIES: National Marine Fisheries Service (NMFS), National Oceanic and Atmospheric Administration (NOAA), Commerce; U.S. Fish and Wildlife Service (USFWS), Interior.

ACTION: Issuance of permit amendment.

SUMMARY: Notice is hereby given that The National Museum of Natural History, Department of Systematic Biology, MRC 108, P.O. Box 37012, Washington, D.C. 20013-7012 [Charles Potter, Principal Investigator], has been issued an amendment to scientific research Permit No. 764-1703-00.

ADDRESSES: The amendment and related documents are available for review upon written request or by appointment in the following office(s): See SUPPLEMENTARY INFORMATION.

FOR FURTHER INFORMATION CONTACT: Ruth Johnson or Jennifer Skidmore, (301)713-2289.

SUPPLEMENTARY INFORMATION: On October 9, 2003, notice was published in the Federal Register (68 FR 58316) that a request for a joint NMFS/USFWS scientific research permit to collect, obtain, and import/export samples taken from marine mammals of the Orders Pinnipedia, Cetacea, Sirenia; and Carnivora (marine and sea otters) had been submitted by the above-named organization. The permit amendment has been granted under the authority of the Marine Mammal Protection Act of 1972, as amended (16 U.S.C. 1361 et seq.), the Regulations Governing the Taking and Importing of Marine Mammals (50 CFR parts 18 and 216), the Endangered Species Act of 1973, as amended (ESA; 16 U.S.C. 1531 et seq.), the regulations governing the taking, importing, and exporting of endangered and threatened species (50 CFR parts 17 and 222-226), and the Fur Seal Act of 1966, as amended (16 U.S.C. 1151 et seq.).

On February 5, 2004, a permit was issued to take only those species under the jurisdiction of the NMFS. This permit amendment allows The National Museum of Natural History to salvage and collect, import/export samples, whole carcasses, hard and soft parts from the above mentioned species that are under USFWS jurisdiction, including polar bear that were inadvertently omitted from the original Federal Register notice. No live animal takes are authorized.

In compliance with the National Environmental Policy Act of 1969 (42 U.S.C. 4321 et seq.), a final determination has been made that the activity proposed is categorically excluded from the requirement to prepare an environmental assessment or environmental impact statement.

Issuance of this amendment, as required by the ESA, was based on a finding that such permit: (1) was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Suite 1110, Honolulu, HI 96814-4700; phone (808)973-2937; fax (808)973-2941;

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320; and

U.S. Fish and Wildlife Service, Division of Management Authority, 4401 North Fairfax Drive, Room 700, Arlington, VA 22203 (1-800-358-2104).

Dated: September 16, 2004.
Stephen L. Leathery,
Chief, Permits, Conservation and Education Division, Office of Protected Resources, National Marine Fisheries Service.

Dated: September 16, 2004.
Charlie R. Chandler,
Chief, Branch of Permits, Division of Management Authority, U.S. Fish and Wildlife Service.

[FR Doc. 04-21689 Filed 9-27-04; 8:45 am]

BILLING CODE 3510-22-S